DEPARTMENT OF DEFENSE

Office of the Secretary

[Transmittal No. 19-59]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-59 with attached Policy Justification and Sensitivity of Technology.

Dated: November 27, 2019.
Aaron T. Siegel,
Alternate OSD Federal Register Liaison Officer, Department of Defense.

Transmittal No. 19-59

Notice of Proposed Issuance of Letter of Offer Pursuant to Section 36(b)(1) of the Arms Export Control Act, as amended

(i) Prospective Purchaser: Government of India

(ii) Total Estimated Value:

Major Defense Equipment * | $ .5614 billion
Other | .4596 billion
TOTAL | 1.0210 billion

(iii) Description and Quantity or Quantities of Articles or Services under Consideration for Purchase:

Major Defense Equipment (MDE):

Up to thirteen (13) MK 45 5 inch/62 caliber (MOD 4) naval guns

Up to three thousand five hundred (3,500) D349 Projectile, BL&P 5″/54 MK 92 MOD 1 Ammunition

Non-MDE: Also included are other ammunition, spare parts, personnel training and equipment training, publications and technical data, transportation, U.S. Government and contractor technical assistance and other related logistics support.

(iv) Military Department: Navy (IN-P-LAU)

(v) Prior Related Cases, if any: None

(vi) Sales Commission, Fee, etc., Paid, Offered, or Agreed to be Paid: None

(vii) Sensitivity of Technology Contained in the Defense Article or Defense Services Proposed to be Sold: See Attached Annex.

(viii) Date Report Delivered to Congress: November 19, 2019

* As defined in Section 47(6) of the Arms Export Control Act.

POLICY JUSTIFICATION

India—MK 45 Gun System

The Government of India has requested to buy up to thirteen (13) MK 45 5 inch/62 caliber (MOD 4) naval guns and three thousand five hundred (3,500) D349 Projectile, 5″/54 MK 92 MOD 1 Ammunition. Also included are other ammunition, spare parts, personnel training and equipment training, publications and technical data, transportation, U.S. Government and contractor technical assistance and other related logistics support. The total estimated cost is $1.0210 billion.

This proposed sale will support the foreign policy and national security of the United States by improving the security of a strategic regional partner.

The proposed sale will improve India's capability to meet current and future threats from enemy weapon systems. The MK-45 Gun System will provide the capability to conduct anti-surface warfare and anti-air defense missions while enhancing interoperability with U.S. and other allied forces. India will use the enhanced capability as a deterrent to regional threats and to strengthen its homeland defense.

The proposed sale of this equipment and support will not alter the basic military balance in the region.

The principal contractor will be BAE Systems Land and Armaments, Minneapolis, Minnesota with gun manufacturing in Louisville, Kentucky. There are no known offset agreements proposed in connection with this potential sale. Any offset agreement required by India will be defined in negotiations between the purchaser and the contractor(s).

Implementation of this proposed sale will not require the assignment of additional U.S. Government and/or contractor representatives to India. However, U.S. Government or contractor personnel in country visits will be required on a temporary basis in conjunction with program technical oversight and support requirements.

There will be no adverse impact on U.S. defense readiness as a result of this proposed sale.

Transmittal No. 19-59

Notice of Proposed Issuance of Letter of Offer Pursuant to Section 36(b)(1) of the Arms Export Control Act

Annex

Item No. vii

(vii) Sensitivity of Technology:

1. The MK-45 Gun System is a U.S. naval artillery gun mount consisting of 127 mm (5 inch) L54 Mark 19 Gun on Mark 45 Mount. The highest level of release of the subsystem is UNCLASSIFIED. The highest level of information that could be disclosed by a proposed sale or by testing of the end item is UNCLASSIFIED; the highest level that must be disclosed for production, maintenance, or training is UNCLASSIFIED. Reverse engineering would not reveal venerable information.

2. A determination has been made that India can provide substantially the same degree of protection for the sensitive technology being released as the U.S. Government. This proposed sale is necessary to further the U.S. foreign policy and national security objectives outlined in the Policy Justification.

3. All defense articles and services listed on this transmittal have been authorized for release and export to the Government of India.

[FR Doc. 2019-26163 Filed 12-3-19; 8:45 am]

BILLING CODE 5001-06-P